DEPARTMENT OF COMMERCE

International Trade Administration

A-570-831

Fresh Garlic from the People's Republic of China: Notice of Extension of Time Limits for the Final Results of the Twelfth New Shipper Reviews

AGENCY: Import Administration, International Trade Administration, Department of Commerce.

EFFECTIVE DATE: July 7, 2008.

FOR FURTHER INFORMATION CONTACT: Blaine Wiltse and Paul Walker, AD/CVD Operations, Office 9, Import Administration, International Trade Administration, U.S. Department of Commerce, 14th Street and Constitution Avenue, NW, Washington, DC 20230; telephone (202) 482-6345 and (202) 482-0413, respectively.

SUPPLEMENTARY INFORMATION:

Background

On May 1, 2008, the Department of Commerce (“the Department”) published the preliminary results of these new shipper reviews, covering the period November 1, 2006, through April 30, 2007. See Fresh Garlic from the People's Republic of China: Preliminary Results of the 12th New Shipper Reviews, 73 FR 24042 (May 1, 2008) (“Preliminary Results”). The final results for these new shipper reviews are currently due no later than July 21, 2008, the next business day after 90 days from the date of issuance of the preliminary results of review.¹

¹ In the Preliminary Results we inadvertently stated that the issuance of the final results would be 90 days from the publication of the preliminary results of review. However, in accordance with Section 751(a)(2)(B)(iv) of the Tariff Act of 1930, as amended (“the Act”), and 19 CFR 351.214(i)(1), the date of issuance of the final results will be based the date of issuance of the Preliminary Results.

Extension of Time Limit for the Final Results

Section 751(a)(2)(B)(iv) of the Tariff Act of 1930, as amended (“the Act”), and 19 CFR 351.214(i)(1) require the Department to issue the preliminary results of a new shipper review within 180 days after the date on which the new shipper review was initiated and to issue final results of a review within 90 days after the date on which the preliminary results were issued. The Department may, however, extend the deadline for completion of the final results of a new shipper review to 150 days if it determines that the case is extraordinarily complicated. See section 751(a)(2)(B)(iv) of the Act, and 19 CFR 351.214(i)(2).

In order to allow parties additional time to submit comments regarding the Department's Preliminary Results, and the verifications associated with these new shipper reviews, the Department extended the deadline for the submission of case and rebuttal briefs. See Letter to All Interested Parties, “New Shipper Review of Fresh Garlic from the People's Republic of China: Briefing Schedule Extension,” from Catherine Bertrand, Program Manager, Office 9, dated June 19, 2008. As a result of this extension, and the extraordinarily complicated issues raised in these new shipper reviews, including surrogate valuation, intermediate input methodology and an analysis of the bona fide nature of the sales under review, it is not practicable to complete these new shipper reviews within the current time limit. Accordingly, the Department is extending the time limit for completion of the final results of these reviews by 60 days (for a total of 150 days after the issuance of the preliminary results) to September 19, 2008, in accordance with section 751(a)(2)(B)(iv) of the Act and 19 CFR 351.214(i)(2).

We are issuing and publishing this notice in accordance with sections 751(a)(2)(B)(iv) and 777(i)(1) of the Act.

Dated: June 30, 2008.
Stephen J. Claeys,
Deputy Assistant Secretary for Import Administration.

[FR Doc. E8-15309 Filed 7-3-08; 8:45 am]

BILLING CODE 3510-DS-S